DEPARTMENT OF ENERGY

Federal Energy Regulatory Commission

[Docket No. RP03-589-001]

Iroquois Gas Transmission System, L.P.; Notice of Compliance Filing

June 4, 2004.

Take notice that on May 28, 2004, Iroquois Gas Transmission System, L.P. (Iroquois) tendered for filing to its FERC Gas Tariff, First Revised Volume No. 1, the following proposed tariff sheets to be effective on July 1, 2004:

Thirteenth Revised Original Sheet No. 4A;

Third Revised Sheet No. 4B;

Fourth Revised Sheet No. 75C;

First Revised Sheet No. 75D.

Iroquois states that its filing makes two modifications to Iroquois' tariff to reflect the terms of the August 29, 2003, Stipulation and Settlement Agreement (Settlement) that was approved by the Commission's letter-order issued on October 24, 2003.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1323 Filed 6-9-04; 8:45 am]

BILLING CODE 6717-01-P